ENVIRONMENTAL PROTECTION AGENCY

[FRL-9194-8]

Science Advisory Board Staff Office; Notification of a Public Meeting of the Chartered Science Advisory Board

AGENCY: Environmental Protection Agency (EPA).

ACTION: Notice.

SUMMARY: The Environmental Protection Agency (EPA) Science Advisory Board (SAB) Staff Office announces a public meeting of the Chartered SAB to receive briefings from EPA and EPA Federal advisory committee representatives and to continue the SAB's discussions with EPA's Office of Research and Development (ORD) concerning EPA's strategic research directions. The SAB will also quality review one draft report.

DATES: The public meeting will be held on Tuesday, September 21, 2010 from 1:30 p.m. to 5:30 p.m. (Eastern Time) and Wednesday, September 22, 2010 from 9 a.m. to 2:30 p.m. (Eastern Time).

ADDRESSES: The meeting will be held at the Doubletree Hotel, 1515 Rhode Island Avenue, NW., Washington, DC.

FOR FURTHER INFORMATION CONTACT: Any member of the public who wants further information concerning the meeting may contact Dr. Angela Nugent, Designated Federal Officer (DFO), EPA Science Advisory Board (1400R), U.S. Environmental Protection Agency, 1200 Pennsylvania Avenue, NW., Washington, DC 20460; via telephone/voice mail (202) 564-2218, fax (202) 202-565-2098; or e-mail at nugent.angela@epa.gov. General information concerning the SAB can be found on the EPA Web site at http://www.epa.gov/sab.

SUPPLEMENTARY INFORMATION: Background: Pursuant to the Federal Advisory Committee Act, 5 U.S.C., App. 2 (FACA), notice is hereby given that the EPA Science Advisory Board will hold a public meeting to receive briefings on Agency and Federal advisory committee science activities and continue the SAB's discussions with EPA's Office of Research and Development (ORD) concerning ORD's strategic research directions. The SAB was established pursuant to 42 U.S.C. 4365 to provide independent scientific and technical advice to the Administrator on the technical basis for Agency positions and regulations. The SAB will comply with the provisions of FACA and all appropriate SAB Staff Office procedural policies.

The chartered SAB is holding this meeting to receive briefings from: (a) Liaison members who chair other Federal advisory committees that address priority Agency science activities and (b) Agency representatives on EPA's Gulf Oil Spill science activities. In addition, EPA's Office of Research and Development (ORD) had requested SAB advice on strategic research directions over the next five years to support EPA's mission and priorities. The chartered SAB initiated discussions on November 9-10, 2009 (74 FR 52805-52806) and April 5-6, 2010 (75 FR 11883-11884) and provided an interim report on this topic, “Office of Research and Development Strategic Research Directions and Integrated Transdisciplinary Research” (EPA-SAB-10-010), available on the SAB Web site at http://yosemite.epa.gov/sab/sabproduct.nsf/E989ECFC125966428525775B0047BE1A/$File/EPA-SAB-10-010-unsigned.pdf. The SAB will continue its discussion with ORD about how to develop additional advice for EPA on this advisory topic. The SAB will also conduct a quality review of a draft report making recommendations to the Administrator concerning nominations for the Agency's Fiscal Year 2010 Scientific and Technological Achievement Awards.

Availability of Meeting Materials: A meeting agenda and other materials for the meeting will be placed on the SAB Web site at http://epa.gov/sab.

Procedures for Providing Public Input: Interested members of the public may submit relevant written or oral information for consideration on the topics included in this advisory activity. Oral Statements: To be placed on the public speaker list for the September 21-22, 2010 meeting, interested parties should notify Dr. Angela Nugent, DFO, by e-mail no later than September 14, 2010. Individuals making oral statements will be limited to five minutes per speaker. Written Statements: Written statements for the September 21-22, 2010 meeting should be received in the SAB Staff Office by than September 14, 2010, so that the information may be made available to the SAB for its consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Nugent at the phone number or e-mail address noted above, preferably at least ten days prior to the meeting, to give EPA as much time as possible to process your request.

Dated: August 24, 2010.
Anthony F. Maciorowski,
Deputy Director, EPA Science Advisory Board Staff Office.

[FR Doc. 2010-21546 Filed 8-27-10; 8:45 am]

BILLING CODE 6560-50-P